DEPARTMENT OF TRANSPORTATION

Federal Motor Carrier Safety Administration

Availability of Border Enforcement Grant Program Funds

AGENCY: Federal Motor Carrier Safety Administration (FMCSA), DOT.

ACTION: Notice.

SUMMARY: This document announces the availability of grant funding under the FY2006 Border Enforcement Grant (BEG) program as specified in Section 4110 of the Safe, Accountable, Flexible, Efficient Transportation Equity Act: A Legacy For Users (SAFETEA-LU). Section 4110 establishes a BEG program. The program is a discretionary grant program funded by a single source. It provides funding for carrying out border commercial motor vehicle (CMV) safety programs and related enforcement activities and projects. An entity or a State that shares a land border with another country is eligible to receive grant funding.

DATES: Applications for grant funding should be sent to the FMCSA Division Office in the State where the applicant is located no later than March 15, 2006. Specific information required with the application is provided below.

FOR FURTHER INFORMATION CONTACT: Mr. Milt Schmidt, Federal Motor Carrier Safety Administration, Office of Safety Programs, North American Borders Division (MC-ESB), 518-431-4239, extension 262, Leo W. O'Brien Federal Building, Room 742, Clinton Avenue and North Pearl Street, Albany, New York 12207. Office hours are from 7:45 a.m. to 4:15 p.m., ET, Monday through Friday, except Federal holidays.

SUPPLEMENTARY INFORMATION:

Background

Section 4110 of SAFETEA-LU (Pub. L. 109-59, August 10, 2005, 119 Stat. 1144) established the BEG program. FMCSA has been providing grant funding to States and others for border program activities since 1995. From FY1995 through FY2003, the majority of the funding was provided through FMCSA's Motor Carrier Safety Assistance Program (MCSAP). In FY2004, the Consolidated Appropriations Act, 2004 (Pub. L. 108-199, January 23, 2004, 118 Stat. 3) authorized a Border Enforcement Grant Program for southern border States and a Northern Border Truck Inspection Program for northern border States. In FY2005, the Consolidated Appropriations Act, 2005 (Pub. L. 108-447, December 8, 2004, 118 Stat. 2809) authorized a combined southern/northern Border Enforcement Program.

SAFETEA-LU authorizes the BEG program for FY2006 through FY2009. The authorized funding for the program is $32 million per year ($128 million total). Funding is subject to reductions as a result of obligation limitations and takedowns as specified in SAFETEA-LU or other legislation.

Funds are available to an entity or a State that shares a land border with a foreign country. Except for the Maintenance of Expenditure requirement that applies to States and political subdivisions of States, for the purposes of the FY2006 BEG program, FMCSA has determined that an entity includes any political subdivision of a State that shares a border with another country or any other organization that carries out border commercial vehicle safety programs and related enforcement activities or projects consistent with established Federal priorities and criteria.

The Federal share of the funds is established by SAFETEA-LU as 100 percent. Allocations remain available for expenditure in the State for the fiscal year in which they are allocated and for the next fiscal year.

Additional information on the BEG program and its application process is available from the Catalog of Federal Domestic Assistance (CFDA), which is available on the Internet at http://www.cfda.gov. The BEG program is listed as CFDA number 20.233.

Implementation of the BEG Discretionary Program in FY2006

FMCSA is implementing the FY2006 BEG program with the goal of reducing the number and severity of CMV crashes in the United States by ensuring CMVs involved in the cross-border movement of freight and passengers are in compliance with all FMCSA regulatory requirements. To achieve this goal, FMCSA has established the following national priorities for the FY2006 BEG program:

• Increase the number of CMV safety inspections and commercial driver license/operating authority/financial responsibility checks in border States with the focus on international traffic;

• Increase the number of hazardous materials inspections in border States with the focus on international traffic;

• Improve the capability to conduct CMV safety inspections at remote sites near the border (The list of eligible items in 49 CFR 350.311 that relate to MCSAP should be used as a guide.);

• Develop appropriate telecommunications systems—those that relate directly to the accessing and transfer of CMV safety data and information—and coordination procedures with Federal inspection agencies and others;

• Design innovative initiatives to improve the safety of CMVs, drivers, and carriers entering the United States from Canada or Mexico; and

• Ensure southern border States meet all requirements to allow Mexico-domiciled carriers access beyond the border commercial zones.

Application and Selection Process

The Secretary may make a grant to a State under this section only if the State agrees that the total expenditure of amounts of the State and political subdivisions of the State, exclusive of amounts from the United States, for carrying out border commercial motor vehicle safety programs and related enforcement activities and projects will be maintained at a level at least equal to the average level of that expenditure by the State and political subdivisions of the State for the last 2 fiscal years of the State or the Federal Government ending before October 1, 2005, whichever the State designates.

The applicant must submit an application form (SF-424, SF-424A, and SF-424B) no later than March 15, 2006 to the Division Administrator of the FMCSA Division Office in the State in which the applicant is domiciled.

If funds remain available after allocations are made for applications submitted by March 15, 2006, additional applications may be submitted and will be considered for funding until all available funds have been allocated.

In addition to the application form, the application package must include a border enforcement program plan containing the following:

• Detailed budget,

• Scope of project,

• Purpose,

• Performance goals,

• Objectives,

• Implementation strategies,

• Performance measures,

• Monitoring and evaluation plan, and

• Status and evaluation of FY2005 border enforcement plan, if appropriate. The border enforcement program plan must be coordinated with the State lead MCSAP agency, as appropriate.

SF-424, SF-424A, and SF-424B can be downloaded from http://www.whitehouse.gov/omb/grants/grants_forms.html. Addresses of the FMCSA Division Offices are available on the Internet at http://www.fmcsa.dot.gov/about/contact/offices/displayfieldroster.asp.

As an alternative, applicants can apply for BEG funding using the grants.gov electronic application process. To use the process, the applicant must have a DUNS number and be registered with grants.gov. To obtain a DUNS number or register with grants.gov, go to http://www.grants.gov/GetStartedRoles?type=aor.

To apply for a grant using the grants.gov process, the applicant must download a grant application package, complete the selected grant application package, and submit the completed grant application package. This can be done on the Internet at http://www.grants.gov/Apply?campaignid=tabnavtracking081105. The CFDA number for BEG is 20.233.

It is anticipated the grants.gov application process will be available for use by the BEG program by March 1, 2006.

Upon receipt, the applications will be reviewed by FMCSA and prioritized for potential funding. The review will consider consistency with national priorities, as noted above; performance with respect to previous year border grant programs, if applicable; coordination with MCSAP, if applicable; Division Administrator recommendations; and other criteria that FMCSA deems appropriate.

Funds will be allocated based on availability and on the applications review conducted by FMCSA. Those applicants approved for funding will be required to enter into a grant agreement with FMCSA, which will be executed by a Division Administrator on behalf of FMCSA.

Issued on: January 20, 2006.
Annette M. Sandberg,
Administrator.

[FR Doc. E6-1155 Filed 1-30-06; 8:45 am]

BILLING CODE 4910-EX-P